DEPARTMENT OF ENERGY

Federal Energy Regulatory Commission

Combined Notice of Filings #1

Take notice that the Commission received the following electric rate filings:

Docket Numbers: ER10-3246-001; ER11-2044-003; ER11-3876-002; ER10-2605-001.

Applicants: MidAmerican Energy Company, Cordova Energy Company LLC, PacifiCorp, Yuma Cogeneration Associates.

Description: Notice of Change in Status of PacifiCorp, MidAmerican Energy Co., Cordova Energy Co., LLC, and Yuma Cogeneration Associates.

Filed Date: 09/14/2011.

Accession Number: 20110914-5142.

Comment Date: 5 p.m. Eastern Time on Wednesday, October 05, 2011.

Docket Numbers: ER11-2970-002.

Applicants: Peetz Logan Interconnect, LLC.

Description: Peetz Logan Interconnect, LLC submits tariff filing per 35: Peetz Logan Interconnect, LLC OATT Compliance Filing to Attachment C to be effective 11/13/2011.

Filed Date: 09/14/2011.

Accession Number: 20110914-5082.

Comment Date: 5 p.m. Eastern Time on Wednesday, October 05, 2011.

Docket Numbers: ER11-4177-001.

Applicants: Southwest Power Pool, Inc.

Description: Southwest Power Pool, Inc. submits tariff filing per 35.17(b): Amendment to 607R14 Westar Energy, Inc. NITSA NOA to be effective 7/1/2011.

Filed Date: 09/14/2011.

Accession Number: 20110914-5108.

Comment Date: 5 p.m. Eastern Time on Wednesday, October 05, 2011.

Docket Numbers: ER11-4522-000.

Applicants: AEP Texas Central Company.

Description: AEP Texas Central Company submits tariff filing per 35.13(a)(2)(iii: 20110914 TCC-Magic Valley Wind Farm I Amd.1 IA to be effective 8/16/2011.

Filed Date: 09/14/2011.

Accession Number: 20110914-5080.

Comment Date: 5 p.m. Eastern Time on Wednesday, October 05, 2011.

Docket Numbers: ER11-4523-000.

Applicants: AEP Texas North Company.

Description: AEP Texas North Company submits tariff filing per 35.13(a)(2)(iii: TNC-FRV Bryan Solar Preliminary Development Agreement to be effective 8/30/2011.

Filed Date: 09/14/2011.

Accession Number: 20110914-5087.

Comment Date: 5 p.m. Eastern Time on Wednesday, October 05, 2011.

Docket Numbers: ER11-4524-000.

Applicants: Haverhill North Coke Company.

Description: Haverhill North Coke Company submits tariff filing per 35.12: Haverhill North Coke Baseline filing to be effective 9/14/2011.

Filed Date: 09/14/2011.

Accession Number: 20110914-5093.

Comment Date: 5 p.m. Eastern Time on Wednesday, October 05, 2011.

Docket Numbers: ER11-4525-000.

Applicants: Middletown Coke Company, LLC.

Description: Middletown Coke Company, LLC submits tariff filing per 35.12: Middletown Baseline Tariff to be effective 9/14/2011.

Filed Date: 09/14/2011.

Accession Number: 20110914-5107.

Comment Date: 5 p.m. Eastern Time on Wednesday, October 05, 2011.

Docket Numbers: ER11-4526-000.

Applicants: PJM Interconnection, L.L.C.

Description: PJM Interconnection, L.L.C. submits tariff filing per 35.13(a)(2)(iii: Queue Position None; Original Service Agreement No. 3056 to be effective 8/15/2011.

Filed Date: 09/14/2011.

Accession Number: 20110914-5119.

Comment Date: 5 p.m. Eastern Time on Wednesday, October 05, 2011.

Docket Numbers: ER11-4527-000.

Applicants: Record Hill Wind LLC.

Description: Record Hill Wind LLC submits tariff filing per 35.12: Application for Market-Based Rate Authority to be effective 10/5/2011.

Filed Date: 09/15/2011.

Accession Number: 20110915-5000.

Comment Date: 5 p.m. Eastern Time on Thursday, October 06, 2011.

Docket Numbers: ER11-4528-000.

Applicants: PJM Interconnection, L.L.C.

Description: Notice of Cancellation of Original Service Agreement No. 1846 submitted on behalf of PJM Interconnection, L.L.C.

Filed Date: 09/14/2011.

Accession Number: 20110914-5139.

Comment Date: 5 p.m. Eastern Time on Wednesday, October 05, 2011.

Docket Numbers: ER11-4529-000.

Applicants: Green Light Energy, LLC.

Description: Notification of Cancellation Green Light Energy LLC seeks to cancel its market-based rate tariff originally accepted in ER11-4529.

Filed Date: 09/15/2011.

Accession Number: 20110915-5034.

Comment Date: 5 p.m. Eastern Time on Thursday, October 06, 2011.

Docket Numbers: ER11-4530-000.

Applicants: Dynamic PL, LLC.

Description: Dynamic PL, LLC submits tariff filing per 35.1: Dynamic PL, LLC Re-file to be effective 9/15/2011.

Filed Date: 09/15/2011.

Accession Number: 20110915-5044.

Comment Date: 5 p.m. Eastern Time on Thursday, October 06, 2011.

Docket Numbers: ER11-4531-000.

Applicants: Reliable Power, LLC.

Description: Reliable Power, LLC submits tariff filing per 35.1: Reliable Power, LLC MBR Re-file to be effective 9/15/2011.

Filed Date: 09/15/2011.

Accession Number: 20110915-5047.

Comment Date: 5 p.m. Eastern Time on Thursday, October 06, 2011.

Docket Numbers: ER11-4532-000.

Applicants: S.J. Energy Partners, Inc.

Description: S.J. Energy Partners, Inc. submits tariff filing per 35.1: S.J. Energy Partners, Inc. Market Based Rates Re-file to be effective 9/15/2011.

Filed Date: 09/15/2011.

Accession Number: 20110915-5050.

Comment Date: 5 p.m. Eastern Time on Thursday, October 06, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 15, 2011.
Nathaniel J. Davis, Sr.,
Deputy Secretary.

[FR Doc. 2011-24743 Filed 9-26-11; 8:45 am]

BILLING CODE 6717-01-P